POSTAL SERVICE

International Product Change—Inbound Direct Entry Contracts

AGENCY: Postal Service™.

ACTION: Notice.

SUMMARY: Postal Service notice of filing a request with the Postal Regulatory Commission to add Inbound Direct Entry Contracts with Foreign Postal Administrations to the Competitive Products List pursuant to 39 U.S.C. 3642 and 3632(b)(3).

DATES: August 27, 2008.

FOR FURTHER INFORMATION CONTACT: Margaret M. Falwell, 703-292-3576

SUPPLEMENTARY INFORMATION: The United States Postal Service® hereby gives notice that it has filed with the Postal Regulatory Commission a Request of United States Postal Service to Add Inbound Direct Entry Contracts with Foreign Postal Administrations to the Competitive Product List, and Notice of Filing (Under Seal) the Enabling Governor's Decision and Two Functionally Equivalent Contracts with Foreign Posts. Documents are available at http://www.prc.gov, Docket Nos. MC2008-6, CP2008-14, and CP2008-15.

Neva R. Watson,
Attorney, Legislative.

[FR Doc. E8-19801 Filed 8-26-08; 8:45 am]

BILLING CODE 7710-12-P